DEPARTMENT OF ENERGY

Federal Energy Regulatory Commission

[Project No. 2299-075]

Turlock Irrigation District, Modesto Irrigation District; Notice of Proposed Restricted Service List for a Programmatic Agreement for Managing Properties Included in or Eligible for Inclusion in the National Register of Historic Places

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the California State Historic Preservation Officer (hereinafter, California SHPO), and the Advisory Council on Historic Preservation (hereinafter, Council) pursuant to the Council's regulations, 36 CFR part 800, implementing section 106 of the National Historic Preservation Act, as amended, (16 U.S.C. 470 f), to prepare and execute a programmatic agreement for managing properties included in, or eligible for inclusion in, the National Register of Historic Places at the Don Pedro Hydroelectric Project No. 2299.

The programmatic agreement, when executed by the Commission and the California SHPO would satisfy the Commission's section 106 responsibilities for all individual undertakings carried out in accordance with the license until the license expires or is terminated (36 CFR 800.13[e]). The Commission's responsibilities pursuant to section 106 for the Don Pedro Hydroelectric Project would be fulfilled through the programmatic agreement, which the Commission proposes to draft in consultation with certain parties listed below. The executed programmatic agreement would be incorporated into any Order issuing a license.

Turlock Irrigation District and Modesto Irrigation District, as the licensees for the Don Pedro Hydroelectric Project No. 2299, and the Central Sierra Me-Wuk, Tuolumne Band of Me-Wuk Indians, North Fork Mono Tribe, Southern Sierra Miwuk Nation, Chicken Ranch Rancheria of Me-Wuk Indians, Buena Vista Rancheria, California Valley Miwok Tribe, Picayune Rancheria of the Chukchansi Indians, National Park Service, and Bureau of Land Management have expressed an interest in this preceding and are invited to participate in consultations to develop the programmatic agreement.

For purposes of commenting on the programmatic agreement, we propose to restrict the service list for the aforementioned project as follows:

John Eddins or Representative, Office of Planning and Review, Advisory Council on Historic Preservation, 1100 Pennsylvania Ave. NW, Suite 809, Washington, D.C. 20004.

Kevin Day or Representative, Tuolumne Band of Me-Wuk Indians, P.O. Box 699, Tuolumne, CA 95379.

Sandy Vasquez or Representative, Southern Sierra Miwuk Nation, P.O. Box 1200, Mariposa, CA 95338.

Amanda Blosser or Representative, Office of Historic Preservation, Department of Parks and Recreation, 1725 23rd Street, Suite 100, Sacramento, CA 95816-7100.

Rhonda Morningstar Pope or Representative, Buena Vista Rancheria, P.O. Box 162283, Sacramento, CA 95816.

Robert Nees, or Representative, Turlock Irrigation District, P.O. Box 949, Turlock, CA 95381.

James Barnes or Representative, Bureau of Land Management, Mother Load Field Office, 5152 Hillsdale Circle, El Dorado Hills, CA 95762

Reba Fuller or Representative, Central Sierra Me-Wuk Cultural and Historic Preservation Committee, P.O. Box 699, Tuolumne, CA 95379.

Ron Goode or Representative, North Fork Mono Tribe, 13396 Tollhouse Road, Clovis, CA 93611.

Stephen Bowes or Representative, National Park Service, 111 Jackson Street, Suite 700, Oakland, CA 94607.

Lloyd Mathiesen or Representative, Chicken Ranch Rancheria of Me-Wuk Indians, P.O. Box 1159, Jamestown, CA 95327.

Silvia Burley or Representative, California Valley Miwok Tribe, 10601 N. Escondido Place, Stockton, CA 95212.

Greg Dias, or Representative, Modesto Irrigation District, P.O. Box 4060, Modesto, CA 95352.

Reggie Lewis or Representative, Picayune Rancheria of the Chukchansi Indians, 46575 Road, 417#A, Coarsegold, CA 93614.

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

Any such motions may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426. Please put the project number (P-2299-075) on the first page of the filing.

If no such motions are filed, the restricted service list will be effective at the end of the 15 day period. Otherwise, a further notice will be issued ruling on any motion or motions filed within the 15 day period.

Dated: January 27, 2012.
Kimberly D. Bose,
Secretary.

[FR Doc. 2012-2379 Filed 2-2-12; 8:45 am]

BILLING CODE 6717-01-P